DEPARTMENT OF ENERGY

Federal Energy Regulatory Commission

Combined Notice of Filings #1

Take notice that the Commission received the following electric rate filings:

Docket Numbers: ER15-2191-000.

Applicants: Grant Wind, LLC.

Description: Supplement to July 13, 2015 Grant Wind, LLC tariff filing.

Filed Date: 7/21/15.

Accession Number: 20150721-5154.

Comments Due: 5 p.m. ET 8/3/15.

Docket Numbers: ER15-2234-000.

Applicants: Rochester Gas and Electric Corporation.

Description: § 205(d) Rate Filing: RGE-RED Borderline Service Agreement to be effective 7/22/2015.

Filed Date: 7/21/15.

Accession Number: 20150721-5148.

Comments Due: 5 p.m. ET 8/11/15.

Docket Numbers: ER15-2235-000.

Applicants: Southwest Power Pool, Inc.

Description: § 205(d) Rate Filing: Eligibility for Start-Up Offer Cancellation Costs to be effective 10/1/2015.

Filed Date: 7/21/15.

Accession Number: 20150721-5149.

Comments Due: 5 p.m. ET 8/11/15.

Docket Numbers: ER15-2236-000.

Applicants: Midwest Power Transmission Arkansas, LLC.

Description: Baseline eTariff Filing: Midwest Power Transmission Arkansas, LLC to be effective 9/21/2015.

Filed Date: 7/22/15.

Accession Number: 20150722-5001.

Comments Due: 5 p.m. ET 8/12/15.

Docket Numbers: ER15-2237-000.

Applicants: Kanstar Transmission, LLC.

Description: Baseline eTariff Filing: Kanstar Transmission, LLC to be effective 9/21/2015.

Filed Date: 7/22/15.

Accession Number: 20150722-5025.

Comments Due: 5 p.m. ET 8/12/15.

Docket Numbers: ER15-2238-000.

Applicants: PJM Interconnection, L.L.C.

Description: Tariff Cancellation: Notice of Cancellation of WMPA SA No. 3412, Queue No. X3-011 to be effective 6/20/2015.

Filed Date: 7/22/15.

Accession Number: 20150722-5042.

Comments Due: 5 p.m. ET 8/12/15.

Docket Numbers: ER15-2239-000.

Applicants: NextEra Energy Transmission West, LLC.

Description: Baseline eTariff Filing: NextEra Energy Transmission West, LLC Transmission Owner Tariff to be effective 10/20/2015.

Filed Date: 7/22/15.

Accession Number: 20150722-5051.

Comments Due: 5 p.m. ET 8/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2015.
Nathaniel J. Davis,
Deputy Secretary.

[FR Doc. 2015-18566 Filed 7-28-15; 8:45 am]

BILLING CODE 6717-01-P